DEPARTMENT OF COMMERCE

National Oceanic and Atmospheric Administration

RIN 0648-XC143

Pacific Fishery Management Council; Public Meeting

AGENCY: National Marine Fisheries Service (NMFS), National Oceanic and Atmospheric Administration (NOAA), Commerce.

ACTION: Notice of a public meeting.

SUMMARY: The Pacific Fishery Management Council's (Council) Groundfish Essential Fish Habitat Review Committee (EFHRC) will hold a meeting by conference call to finalize a report on the periodic review of groundfish essential fish habitat (EFH).

DATES: The conference call will be held August 17, 2012 between 9 a.m. and noon.

ADDRESSES: The meeting will be held via conference call, with a listening station provided at the Pacific Council Office, 7700 NE Ambassador Place, Suite 101, Portland, OR 97220-1384, telephone: (503) 820-2280.

Council address: Pacific Fishery Management Council, 7700 NE Ambassador Place, Suite 101, Portland, OR 97220-1384.

FOR FURTHER INFORMATION CONTACT: Mr. Chuck Tracy, Staff Officer, Pacific Council; telephone: (503) 820-2280.

SUPPLEMENTARY INFORMATION: The purpose of the meeting is to finalize the Phase I report on the review of information relevant to EFH for Pacific Coast groundfish stocks. The Phase I report is designed to compile new and newly-available information, and compare it with the suite of information that was used to establish the current groundfish EFH designations. The EFHRC is scheduled to report to the Council at its September 13-18, 2012 meeting in Boise, ID.

Although non-emergency issues not contained in the meeting agenda may come before the EFHRC for discussion, those issues may not be the subject of formal EFHRC action during this meeting. EFHRC action will be restricted to those issues specifically listed in this notice and any issues arising after publication of this notice that require emergency action under section 305(c) of the Magnuson-Stevens Fishery Conservation and Management Act, provided the public has been notified of the EFHRC's intent to take final action to address the emergency.

Special Accommodations

This meeting is physically accessible to people with disabilities. Requests for sign language interpretation or other auxiliary aids should be directed to Mr. Kris Kleinschmidt at (503) 820-2280 at least 5 days prior to the meeting date.

Dated: July 31, 2012.
Tracey L. Thompson,
Acting Deputy Director, Office of Sustainable Fisheries, National Marine Fisheries Service.

[FR Doc. 2012-19031 Filed 8-2-12; 8:45 am]

BILLING CODE 3510-22-P